ENVIRONMENTAL PROTECTION AGENCY

[EPA-HQ-OPPT-2016-0701; FRL-9962-98]

Certain New Chemicals; Receipt and Status Information for April 2017

AGENCY: Environmental Protection Agency (EPA).

ACTION: Notice.

SUMMARY: EPA is required under the Toxic Substances Control Act (TSCA) to publish in the Federal Register a notice of receipt of a premanufacture notice (PMN); an application for a test marketing exemption (TME), both pending and/or expired; and a periodic status report on any new chemicals under EPA review and the receipt of notices of commencement (NOC) to manufacture those chemicals. This document covers the period from April 3, 2017 to April 28, 2017.

DATES: Comments identified by the specific case number provided in this document, must be received on or before August 7, 2017.

ADDRESSES: Submit your comments, identified by docket identification (ID) number EPA-HQ-OPPT-2016-0701, and the specific PMN number or TME number for the chemical related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT:

For technical information contact: Jim Rahai, Information Management Division (7407M), Office of Pollution Prevention and Toxics, Environmental Protection Agency, 1200 Pennsylvania Ave. NW., Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitters of the actions addressed in this document.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the Agency taking?

This document provides receipt and status reports, which cover the period from April 3, 2017 to April 28, 2017, and consists of the PMNs and TMEs both pending and/or expired, and the NOCs to manufacture a new chemical that the Agency has received under TSCA section 5 during this time period.

III. What is the Agency's authority for taking this action?

Under TSCA, 15 U.S.C. 2601 et seq., EPA classifies a chemical substance as either an “existing” chemical or a “new” chemical. Any chemical substance that is not on EPA's TSCA Inventory is classified as a “new chemical,” while those that are on the TSCA Inventory are classified as an “existing chemical.” For more information about the TSCA Inventory, please go to: http://www.epa.gov/opptintr/newchems/pubs/inventory.htm.

Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to http://www.epa.gov/oppt/newchems.

Under TSCA sections 5(d)(2) and 5(d)(3), EPA is required to publish in the Federal Register a notice of receipt of a PMN or an application for a TME and to publish in the Federal Register periodic reports on the status of new chemicals under review and the receipt of NOCs to manufacture those chemicals.

IV. Receipt and Status Reports

As used in each of the tables in this unit, (S) indicates that the information in the table is the specific information provided by the submitter, and (G) indicates that the information in the table is generic information because the specific information provided by the submitter was claimed as CBI.

For the 47 PMNs received by EPA during this period, Table 1 provides the following information (to the extent that such information is not claimed as CBI): The EPA case number assigned to the PMN; the date the PMN was received by EPA; the projected end date for EPA's review of the PMN; the submitting manufacturer/importer; the potential uses identified by the manufacturer/importer in the PMN; and the chemical identity.

Table 1—PMNs Received From April 3, 2017 to April 28, 2017
Case No. | Received date | Projected notice end date | Manufacturer importer | Use | Chemical
P-16-0358 | 4/21/2017 | 7/20/2017 | CBI | (S) Chemical intermediate | (G) Alkyl phenol.
P-16-0429 | 4/21/2017 | 7/20/2017 | CBI | (G) Universal tint paste resin having high solids | (G) Endcapped polysiloxane.
P-16-0438 | 4/18/2017 | 7/17/2017 | CBI | (S) Intermediate for pesticide inert | (S) 3-butenenitrile, 2-(acetyloxy).
P-17-0004 | 4/20/2017 | 7/19/2017 | CBI | (G) Non-isolated intermediate | (S) 1-tetradecene homopolymer.
P-17-0004 | 4/20/2017 | 7/19/2017 | CBI | (S) Base fluid/carrier fluid for additives in motor oil | (S) 1-tetradecene homopolymer.
P-17-0004 | 4/20/2017 | 7/19/2017 | CBI | (S) Base fluid/carrier fluid for additives in industrial lubricants | (S) 1-tetradecene homopolymer.
P-17-0004 | 4/20/2017 | 7/19/2017 | CBI | (S) Base fluid carrier fluid for additives in automatic transmission fluid | (S) 1-tetradecene homopolymer.
P-17-0004 | 4/20/2017 | 7/19/2017 | CBI | (S) Chemical intermediate for specialty surfactants | (S) 1-tetradecene homopolymer.
P-17-0005 | 4/20/2017 | 7/19/2017 | CBI | (G) Non-isolated intermediate | (S) 1-tetradecene homopolymer hydrogenated.
P-17-0005 | 4/20/2017 | 7/19/2017 | CBI | (S) Base fluid/carrier fluid for additives in motor oil | (S) 1-tetradecene homopolymer hydrogenated.
P-17-0005 | 4/20/2017 | 7/19/2017 | CBI | (S) Base fluid/carrier fluid for additives in industrial lubricants | (S) 1-tetradecene homopolymer hydrogenated.
P-17-0005 | 4/20/2017 | 7/19/2017 | CBI | (S) Base fluid carrier fluid for additives in automatic transmission fluid | (S) 1-tetradecene homopolymer hydrogenated.
P-17-0005 | 4/20/2017 | 7/19/2017 | CBI | (S) Chemical intermediate for specialty surfactants | (S) 1-tetradecene homopolymer hydrogenated.
P-17-0196 | 4/4/2017 | 7/3/2017 | CBI | (G) Can coating | (G) Styrenated alkyl and epoxidized acrylate polymer.
P-17-0236 | 4/19/2017 | 7/18/2017 | DIC INTERNATIONAL (USA), LLC | (G) Binder resin for electronic materials | (G) Formaldehyde, polymer with (chloromethyl) oxirane and substituted aromatic compounds.
P-17-0236 | 4/19/2017 | 7/18/2017 | DIC INTERNATIONAL (USA), LLC | (G) Matrix resin for composite materials | (G) Formaldehyde, polymer with (chloromethyl) oxirane and substituted aromatic compounds.
P-17-0259 | 4/19/2017 | 7/18/2017 | CBI | (G) Curative for thermosetting resins | (G) Halogenated aromatic amine.
P-17-0262 | 4/4/2017 | 7/3/2017 | CBI | (G) Paint raw materials | (G) Acryl-modified epoxy polymer with vegetable oil, fatty acid, acrylates and methacrylates with organic amine.
P-17-0264 | 4/11/2017 | 7/10/2017 | Allnex USA, Inc. | (S) Binder for glass coatings | (G) Alkanoic acid, 2-alkyl-, substituted alkyl ester, polymer with alkyl alkenoate, substituted carbomonocycle, substituted alkyl alkenoate and alkyl substituted alkenoate, substituted alkanenitrile-initiated.
P-17-0264 | 4/11/2017 | 7/10/2017 | Allnex USA, Inc. | (S) Coating resin intermediate. present in viacryl vsc 6800 used as a binder for glass coatings | (G) Alkanoic acid, 2-alkyl-, substituted alkyl ester, polymer with alkyl alkenoate, substituted carbomonocycle, substituted alkyl alkenoate and alkyl substituted alkenoate, substituted alkanenitrile-initiated.
P-17-0265 | 4/11/2017 | 7/10/2017 | Allnex USA, Inc. | (S) Binder for glass coatings | (G) Alkanoic acid, alkyl-, substituted alkyl ester, polymer with alkyl alkenoate, substituted carbomonocycle, substituted alkyl alkenoate and alkyl substituted alkenoate, substituted alkanenitrile-initiated, polymers with substituted alkanenitrile-initiated, alkanoic acid-alkane substituted acrylates-substituted carbomonocycle polymer, compounds with alkylamino alkanol.
P-17-0265 | 4/11/2017 | 7/10/2017 | Allnex USA, Inc. | (S) Coating resin intermediate. present in viacryl vsc 6800 used as a binder for glass coatings | (G) Alkanoic acid, alkyl-, substituted alkyl ester, polymer with alkyl alkenoate, substituted carbomonocycle, substituted alkyl alkenoate and alkyl substituted alkenoate, substituted alkanenitrile-initiated, polymers with substituted alkanenitrile-initiated, alkanoic acid-alkane substituted acrylates-substituted carbomonocycle polymer, compounds with alkylamino alkanol.
P-17-0267 | 4/19/2017 | 7/18/2017 | CBI | (G) Solvent, foam and refrigerant use | (G) Chlorofluoroalkene.
P-17-0272 | 4/5/2017 | 7/4/2017 | Cargill, Incorporated | (G) Component in asphalt emulsions | (G) Fatty acid amide alkyl amine salts.
P-17-0273 | 4/5/2017 | 7/4/2017 | Cargill, Incorporated | (G) Component in asphalt emulsions | (G) Fatty acid amide alkyl amine salts.
P-17-0274 | 4/5/2017 | 7/4/2017 | Cargill, Incorporated | (G) Component in asphalt emulsions | (G) Fatty acid amide alkyl amine salts.
P-17-0275 | 4/5/2017 | 7/4/2017 | Cargill, Incorporated | (G) Component in asphalt emulsions | (G) Fatty acid amide alkyl amine salts.
P-17-0276 | 4/5/2017 | 7/4/2017 | Cargill, Incorporated | (G) Component in asphalt emulsions | (G) Fatty acid amide alkyl amine salts.
P-17-0277 | 4/5/2017 | 7/4/2017 | Cargill, Incorporated | (G) Component in asphalt emulsions | (G) Fatty acid amide alkyl amine salts.
P-17-0278 | 4/13/2017 | 7/12/2017 | Cargill, Incorporated | (G) Component in asphalt emulsions | (G) Fatty acid derived imidazoline salts.
P-17-0279 | 4/13/2017 | 7/12/2017 | Cargill, Incorporated | (G) Component in asphalt emulsions | (G) Fatty acid derived imidazoline salt.
P-17-0280 | 4/13/2017 | 7/12/2017 | Cargill, Incorporated | (G) Component in asphalt emulsions | (G) Fatty acid derived imidazoline salt.
P-17-0281 | 4/21/2017 | 7/20/2017 | CBI | (G) Water reducible resin | (G) Polysiloxane-polyester polyol carboxylate.
P-17-0283 | 4/12/2017 | 7/11/2017 | CBI | (G) Lubricating oil additive for automotive engine oils | (G) Arenesulfonic acid, alkyl derivatives, metal salts.
P-17-0284 | 4/13/2017 | 7/12/2017 | CBI | (G) In-process intermediate | (S) 2-heptanone, 4-hydroxy-.
P-17-0285 | 4/13/2017 | 7/12/2017 | CBI | (G) In-process intermediate | (S) 4-hepten-2-one.
P-17-0286 | 4/13/2017 | 7/12/2017 | Shin-etsu microsi | (G) This material is added ca.0.05-10% in resist composition | (G) Bicyclo[2.2.1] alkane-1-alkanesulfonic acid, 7,7-dimethyl-2-oxo-, [(3,5-dimethoxy-2- naphthalenyl) carbonyl] methylazanyl ester, (1s,4r)-.
P-17-0287 | 4/13/2017 | 7/12/2017 | Shin-etsu microsi | (G) This material is added ca.0.05-10% in resist composition | (G) Phenylsulfonic acid, 4-methyl-, [(dimethoxy-2-naphthalenyl) carbonyl]methylazanyl ester.
P-17-0289 | 4/17/2017 | 7/16/2017 | CBI | (S) Chemical intermediate | (G) Fluoroalkyl sulfonamide derivative.
P-17-0291 | 4/19/2017 | 7/18/2017 | Chevron Phillips chemical company, LP | (G) Exported production volume | (G) Linear and branched alkyl mercaptans.
P-17-0291 | 4/19/2017 | 7/18/2017 | Chevron Phillips chemical company, LP | (G) Component in mining formuations | (G) Linear and branched alkyl mercaptans.
P-17-0292 | 4/19/2017 | 7/18/2017 | Chevron Phillips chemical company, LP | (G) Exported production volume | (G) Linear and branched alkyl sulfides.
P-17-0292 | 4/19/2017 | 7/18/2017 | Chevron Phillips chemical company, LP | (G) Component in mining formuations | (G) Linear and branched alkyl sulfides.
P-17-0293 | 4/24/2017 | 7/23/2017 | Allnex USA, Inc. | (S) Binder for powder coating | (G) Substituted carbomonocycle, polymer with substituted carbonomoncycles, alkyl substituted- alkanediols, alkanediol, alkanedioic acid, and dialkylene glycol.
P-17-0294 | 4/25/2017 | 7/24/2017 | Akzo nobel functional chemicals, LLC | (S) The PMN substance will be used as an organic peroxide polymerization initiator for unsaturated acrylic, unsaturated polyester and vinyl ester resins. These uses will include traditional acrylic systems such as acrylic solid surface, acrylic adhesives, acrylic castings and acrylic coatings | (S) 2-butanone, 3-methyl-, peroxide.
P-17-0295 | 4/25/2017 | 7/24/2017 | CBI | (S) Refrigerant used in closed systems for (i) chillers (commercial comfort air conditioners); and (ii) industrial process refrigeration | (G) Hydrochlorofluoroolefin.

For the 13 TMEs received by EPA during this period, EPA provides the following information (to the extent that such information is not claimed as CBI) on the TMEs received by EPA during this period: The EPA case number assigned to the TME; the date the TME was received by EPA; the projected end date for EPA's review of the TME; the submitting manufacturer/importer, the potential uses identified by the manufacturer/importer in the TME, and the chemical identity.

Table 2—TMEs Received From April 3, 2017 to April 28, 2017
Case No. | Received date | Projected notice end date | Manufacturer importer | Use | Chemical
T-17-0003 | 4/5/2017 | 5/20/2017 | Cargill, Incorporated | (G) Component in asphalt emulsions | (G) Fatty acid amide alkyl amine salts.
T-17-0004 | 4/5/2017 | 5/20/2017 | Cargill, Incorporated | (G) Component in asphalt emulsions | (G) Fatty acid amide alkyl amine salts.
T-17-0005 | 4/5/2017 | 5/20/2017 | Cargill, Incorporated | (G) Component in asphalt emulsions | (G) Fatty acid amide alkyl amine salts.
T-17-0006 | 4/5/2017 | 5/20/2017 | Cargill, Incorporated | (G) Component in asphalt emulsions | (G) Fatty acid amide alkyl amine salts.
T-17-0007 | 4/5/2017 | 5/20/2017 | Cargill, Incorporated | (G) Component in asphalt emulsions | (G) Fatty acid amide alkyl amine salts.
T-17-0008 | 4/5/2017 | 5/20/2017 | Cargill, Incorporated | (G) Component in asphalt emulsions | (G) Fatty acid amide alkyl amine salts.
T-17-0009 | 4/13/2017 | 5/28/2017 | Cargill, Incorporated | (G) Component in asphalt emulsions | (G) Fatty acid derived imidazoline salt.
T-17-0010 | 4/13/2017 | 5/28/2017 | Cargill, Incorporated | (G) Component in asphalt emulsions | (G) Fatty acid derived imidazoline salts.
T-17-0011 | 4/13/2017 | 5/28/2017 | Cargill, Incorporated | (G) Component in asphalt emulsions | (G) Fatty acid derived imidazoline salt.
T-17-0012 | 4/19/2017 | 6/3/2017 | Chevron Phillips chemical company, LP | (G) Exported production volume | (G) Linear and branched alkyl mercaptans.
T-17-0012 | 4/19/2017 | 6/3/2017 | Chevron Phillips chemical company, LP | (G) Component in mining formuations | (G) Linear and branched alkyl mercaptans.
T-17-0013 | 4/19/2017 | 6/3/2017 | Chevron Phillips chemical company, LP | (G) Exported production volume | (G) Linear and branched alkyl sulfides.
T-17-0013 | 4/19/2017 | 6/3/2017 | Chevron Phillips chemical company, LP | (G)Component in mining formuations | (G) Linear and branched alkyl sulfides.

For the 15 NOCs received by EPA during this period, Table 2 provides the following information (to the extent that such information is not claimed as CBI): The EPA case number assigned to the NOC; the date the NOC was received by EPA; the projected date of commencement provided by the submitter in the NOC; and the chemical identity.

Table 3—NOCs Received from April 3, 2017 to April 28, 2017
Case No. | Received date | Commencement date | Chemical
J-17-0006 | 4/18/2017 | 3/27/2017 | (G) Modified microorganism.
P-13-0285 | 4/19/2017 | 3/22/2017 | (G) Polyamic acid.
P-14-0666 | 4/20/2017 | 4/7/2017 | (S) Benzoic acid, 4-(benzoylamino)-, lithium salt (1:1).
P-15-0307 | 4/26/2017 | 3/27/2017 | (G) Substituted bis[phenol] polymer with substituted benzene.
P-15-0487 | 4/12/2017 | 3/15/2017 | (G) Multi-walled carbon nanotubes.
P-15-0488 | 4/12/2017 | 3/15/2017 | (G) Multi-walled carbon nanotubes.
P-15-0489 | 4/12/2017 | 3/15/2017 | (G) Multi-walled carbon nanotubes.
P-15-0490 | 4/12/2017 | 3/15/2017 | (G) Multi-walled carbon nanotubes.
P-15-0491 | 4/12/2017 | 3/15/2017 | (G) Multi-walled carbon nanotubes.
P-16-0034 | 4/21/2017 | 4/3/2017 | (G) Cashew, nutshell liq., polymer with epichlorohydrin, amines, formaldehdye, phenol and glycol.
P-16-0079 | 4/10/2017 | 3/13/2017 | (G) Polyarylate.
P-16-0265 | 4/21/2017 | 3/22/2017 | (S) Siloxanes and silicones, me ph, me 3,3,3-trifluoropropyl.
P-16-0350 | 4/4/2017 | 4/3/2017 | (G) Polyaralkyl aryl ester of methacrylic acid.
P-16-0358 | 4/27/2017 | 4/25/2017 | (G) Alkyl phenol.
P-17-0140 | 4/20/2017 | 3/22/2017 | (S) Ethyl 3,4-dichlorobenzoate.

Authority: 15 U.S.C. 2601 et seq.

Dated: June 8, 2017.
Pamela Myrick,
Director, Information Management Division, Office of Pollution Prevention and Toxics.

[FR Doc. 2017-14326 Filed 7-6-17; 8:45 am]

BILLING CODE 6560-50-P